DEPARTMENT OF TRANSPORTATION

Federal Transit Administration

Notice of Granted Buy America Waiver

AGENCY: Federal Transit Administration (FTA), DOT.

ACTION: Notice of granted Buy America waiver.

SUMMARY: This waiver allows ticket vending machine manufacturers to install the Mars Electronics Bill Handling Unit and count it as domestic for purpose of Buy America compliance. It is predicated on the non-availability of the item domestically and was granted on December 10, 2002, for the period of two years, or until such time as a domestic source for this Bill Handling Unit becomes available, whichever occurs first. This notice shall insure that the public, particularly potential manufacturers, is aware of this waiver. FTA requests that the public notify it of any relevant changes in the domestic market.

FOR FURTHER INFORMATION CONTACT: Meghan G. Ludtke, FTA Office of Chief Counsel, Room 9316, (202) 366-1936 (telephone), or (202) 366-3809 (fax).

SUPPLEMENTARY INFORMATION: See waiver below.

Issued: January 2, 2003.
Jennifer L. Dorn,
Administrator.

Cassius Jones, Industry Manager, Mars Electronics International, 1301 Wilson Drive, West Chester, Pennsylvania 19380-5963

Dear Mr. Jones: This letter responds to your correspondence of August 8, 2002, in which you request an extension of a Buy American non-availability waiver for the BNA57, BNA52/54, and BSN385/39 bill handling units manufactured for use in ticket vending machines. The bill handling unit at issue here is able to accept, validate, and place in mechanical escrow banknotes of various denominations. The device also transfers these banknotes from the escrow to a vault within the ticket vending machine or returns them if the transaction is not completed. On July 21, 2000, the Federal Transit Administration granted Mars Electronics a waiver for this unit. For the reasons below, I have determined that a waiver is appropriate here.

FTA's requirements concerning domestic preference for federally funded transit projects are set forth in 49 U.S.C. 5323(j). However, Section 5323(J)(2)(B) states that those requirements shall not apply if the item or items being procured are not produced in the U.S. in sufficient and reasonably available quantities and of a satisfactory quality. The implementing regulation also provides that a waiver may be requested “for a specific item or material that is used in the production of a manufactured product.” 49 CFR 661.7(g). The regulations allow a bidder or supplier to request a waiver only if it is being sought under this section. See, 49 CFR 6617(g) and 49 CFR 661.9(d).

You state that there are still no U.S. manufacturers of this component with a functionally equivalent product. This assertion is supported by a market survey furnished as part of your application and conducted by Scheidt & Bachlman, a ticket vending machine manufacturer and potential end user of this component. You have also supplied a letter supporting your contentions from Cubic Transportation Systems, another potential end user. FTA posted a request for comments on this matter on our website and received no comments from domestic manufacturers of this product.

Based on the above-referenced information, I have determined that the grounds for a “non-availability” waiver exist. Therefore, pursuant to the provisions of 49 U.S.C. 5323(j)(2)(B), a waiver is hereby granted by manufacture of the BNA57, BNA52/54, processing unit for a period of two years, or until such time as a domestic source of this type of unit becomes available, whichever occurs first. In order to insure that the public is aware of this waiver, particularly potential manufacturers, it will be published in the Federal Register. If you have any questions, please contact Joseph Pixley at (202) 366-1936.

Very truly yours,

Gregory B. McBride,

Deputy Chief Counsel.

[FR Doc. 03-823 Filed 1-14-03; 8:45 am]

BILLING CODE 4910-57-M